DEPARTMENT OF DEFENSE

Department of the Air Force

Air Force Real Property Agency; Exchange of Air Force Real Property for Military Construction

ACTION: Notice.

Authority: Title 10, United States Code, Section 2869(d)(1).

SUMMARY: This Notice identifies excess Federal property under the administrative jurisdiction of the United States Air Force that the Air Force intends to exchange for military construction beneficial to the Air Force.

FOR FURTHER INFORMATION CONTACT: Mr. Sam Rupe, Office of the Air Force General Counsel (SAF/GCN-RPO), 143 Billy Mitchell Blvd., Suite 1, San Antonio, TX 78226-1816; telephone (210) 925-0227 (this telephone number is not toll-free).

SUPPLEMENTARY INFORMATION: In accordance with 10 U.S.C. 2869(d)(1), the Air Force is publishing this Notice to identify Federal real property that the Air Force intends to dispose of in exchange for military construction beneficial to the Air Force.

Description of the Air Force property: Buckley Annex CO.

Property Number:

Status: Excess.

Comments: Buckley Annex is located on the western side of the former Lowry AFB and currently houses the Defense Finance and Accounting Service (DFAS) and the Air Reserve Personnel Center (ARPC). In 2005, BRAC legislation directed the relocation of ARPC to Buckley AFB and the realignment of DFAS, resulting in the ultimate closure of the site. The approximate 70 acre parcel contains one 605,000 Square Foot building and several smaller buildings to include a warehouse and office building located at 6760 E. Irvington Pl., in the City and County of Denver.

Military construction sought: After completion of a competitive bid process, the Air Force will enter into an agreement with the selected offeror/property recipient to construct military construction projects. The specific projects that will be constructed will depend on the amount of construction value offered by the prospective property recipient.

Bao-Anh Trinh,
Air Force Federal Register Liaison Officer.

[FR Doc. E8-22348 Filed 9-23-08; 8:45 am]

BILLING CODE 5001-05-P